DEPARTMENT OF VETERANS AFFAIRS

[OMB Control No. 2900-0657]

Agency Information Collection (Conflicting Interests Certification for Proprietary Schools) Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATE: Comments must be submitted on or before February 19, 2008.

ADDRESSES: Submit written comments on the collection of information through www.Regulations.gov or to VA's OMB Desk Officer, OMB Human Resources and Housing Branch, New Executive Office Building, Room 10235, Washington, DC 20503 (202) 395-7316. Please refer to “OMB Control No. 2900-0657” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-0657.”

SUPPLEMENTARY INFORMATION: Title: Conflicting Interests Certification for Proprietary Schools (Under Chapters 30, 31, 32, and 35, Title 38, U.S.C.; Chapters 1606 and 1607, Title 10, U.S.C.; Sections 901 or 903 of Public Law 96-342, National Call to Service Provision of Public Law 107-314 and the Omnibus Diplomatic Security and Antiterrorism Act of 1986), VA Form 22-1919.

OMB Control Number: 2900-0657.

Type of Review: Extension of a currently approved collection.

Abstract: VA pays education benefits to veterans and other eligible person pursuing approved programs of education. Employees of VA and State approving agency enrolled in a proprietary profit school are prohibit from owning any interest in the school. Educational assistance provided to veterans or eligible person based on their enrollment in proprietary school and who are officials authorized to signed certificates of enrollment are also prohibit from receiving educational assistance based on their enrollment. Propriety schools officials complete VA Form 22-1919 certifying that the institution and enrollees do not have any conflict of interest.

An agency may not conduct or sponsor, and a person is not required to respond to a collection of information unless it displays a currently valid OMB control number. The Federal Register Notice with a 60-day comment period soliciting comments on this collection of information was published on October 16, 2007, at pages 58736-58737.

Affected Public: Business or other for-profit.

Estimated Annual Burden: 25 hours.

Estimated Average Burden Per Respondent: 10 minutes.

Frequency of Response: On occasion.

Estimated Number of Respondents: 150.

Dated: January 3, 2008.
By direction of the Secretary.
Denise McLamb,
Program Analyst, Records Management Service.

[FR Doc. E8-765 Filed 1-16-08; 8:45 am]

BILLING CODE 8320-01-P